INTERNATIONAL TRADE COMMISSION

[Investigation No. 337-TA-934]

Certain Dental Implants; Notice of Correction Concerning Notice of Request for Statements on the Public Interest

AGENCY: U.S. International Trade Commission

ACTION: Correction of notice.

SUMMARY: Correction is made to the deadline to submit statements on the public interest specified in notice 80 FR 76574-75 which was published on Wednesday, December 9, 2015. The deadline to submit statements on the public interest is extended to Friday, December 18, 2015.

Issued: December 9, 2015.
Lisa R. Barton,
Secretary to the Commission.

[FR Doc. 2015-31354 Filed 12-11-15; 8:45 am]

BILLING CODE 7020-02-P